DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5 P.M. in Suite 4100W, U.S. Department of Commerce, Franklin Court Building, 1099 14th Street, NW, Washington, DC.

Docket Number: 01-023. Applicant: University of Georgia, 151 Barrow Hall, Electron Microscopy Laboratory, Athens, GA 30602-2403. Instrument: Electron Microscope, Model Tecnai 20. Manufacturer: FEI Company, The Netherlands. Intended Use: The instrument is intended to be used to study the structure of biological materials in three dimensions including components of cells such as organelles or filaments, whole cells (i.e. bacteria), large molecules and crystals. The general goal of these investigations is to achieve a detailed understanding of the 3-dimensional structure of some cellular component, which in turn can be used to increase understanding of the function of that component. In addition, the instrument will be used in the courses: CBIO(BIOL) 3410L. Laboratory in Cellular and Developmental Biology, (CBIO)BIOL 5050L/7050L. Electron Microscopy Laboratory, and CBIO 8050-8050L. Techniques in Modern Microscopy. Application accepted by Commissioner of Customs: October 22, 2001.

Docket Number: 01-025. Applicant: University of Illinois at Urbana-Champaign, 207 Henry Administration Building, 506 South Wright Street, Urbana, IL 61801. Instrument: QPix Colony Picker with Gridding and Re-arraying packages. Manufacturer: Genetix Limited, United Kingdom. Intended Use: The instrument is a robot that performs steps of selecting certain cells amongst a large number of others and transferring them to other devices for further investigation. It is intended to be used for research and education of genomics including the study of honey bees, cattle and salmonella. Application accepted by Commissioner of Customs: November 23, 2001.

Gerald A. Zerdy,
Program Manager, Statutory Import Programs Staff.

[FR Doc. 02-2253 Filed 1-29-02; 8:45 am]

BILLING CODE 3510-DS-P